COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

DATES: Comments Must Be Received on or Before: 9/9/2013.

ADDRESSES: Committee for Purchase From People Who Are Blind or Severely Disabled, 1401 S. Clark Street, Suite 10800, Arlington, Virginia 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Laundry Net, Synthetic Mesh, 24x36, Locking Drawstring

NSN: 3510-00-NIB-0013—Heavy Duty, 3/16″ Hole Size.

NSN: 3510-00-NIB-0014—Medium Duty, 1/16″ Hole Size.

NPA: Bestwork Industries for the Blind, Inc., Runnemede, NJ.

Contracting Activity: General Services Administration, Fort Worth, TX.

Coverage: A-List for the Total Government Requirement as aggregated by the General Services Administration.

Binder, Loose-leaf

NSN: 7510-01-462-1383—View Framed, Navy Blue, ½″.

NSN: 7510-01-462-1384—View Framed, Black, ½″.

NSN: 7510-01-462-1385—Frame View, Navy Blue, 1½″.

NSN: 7510-01-462-1386—View Framed, White, 1″.

NSN: 7510-01-462-1387—View Framed, White, ½″.

NSN: 7510-01-462-1388—View Framed, Navy Blue, 1″.

NSN: 7510-01-462-1389—View Framed, Black, 1½″.

NSN: 7510-01-462-1390—Frame View, Black, 1″.

NSN: 7510-01-462-1391—Frame View, White, 1½″.

NPA: South Texas Lighthouse for the Blind, Corpus Christi, TX.

Contracting Activity: General Services Administration, New York, NY.

Coverage: A-List for the Total Government Requirement as aggregated by the General Services Administration.

Services

Service Type/Location: Janitorial and Landscape Service, National and Oceanic Atmospheric Administration, National Weather Service, Radar Operations Center, 1200 Westheimer Drive and 1426 Halley Avenue, Norman, OK.

NPA: Trace, Inc., Boise, ID.

Contracting Activity: Dept of Comm, National Oceanic and Atmospheric Administration, Boulder, CO.

Service Type/Location: Laundry Service, US Coast Guard Base, 4000 Coast Guard Blvd., Portsmouth, VA.

NPA: Louise W. Eggleston Center, Inc., Norfolk, VA.

Contracting Activity: Dept of Homeland Security, U.S. Coast Guard, Base Portsmouth, Portsmouth, VA.

Service Type/Location: Base Supply Center, Georgia National Guard, Clay National Guard Center, 1356 Atlanta Road SE., Marietta, GA.

NPA: L.C. Industries for the Blind, Inc., Durham, NC.

Contracting Activity: Dept of the Army, W7M3 USPFO Activity GA ARNG, Marietta, GA.

Patricia Briscoe,
Deputy Director, Business Operations, (Pricing and Information Management), Director, Business Operations.

[FR Doc. 2013-19303 Filed 8-8-13; 8:45 am]

BILLING CODE 6353-01-P